DEPARTMENT OF AGRICULTURE

Animal and Plant Health Inspection Service

9 CFR Parts 71, 77, 78, 79, 80, 85, and 93

[Docket No. 04-052-1]

Livestock Identification; Use of Alternative Numbering Systems

AGENCY: Animal and Plant Health Inspection Service, USDA.

ACTION: Interim rule and request for comments.

SUMMARY: We are amending the regulations to recognize additional numbering systems for the identification of animals in interstate commerce and State/Federal/industry cooperative disease control and eradication programs. Additionally, we are amending the regulations to authorize the use of a numbering system to identify premises where animals are managed or held. These new numbering systems will be a key element in a national animal identification system that is being implemented by the U.S. Department of Agriculture, at present on a voluntary basis. The changes we are making to the regulations are necessary to allow the use of these new numbering systems for official purposes. Use of the new numbering systems will not, however, be required as a result of this rulemaking. Finally, we are amending the regulations to prohibit the removal of official identification devices and to eliminate potential regulatory obstacles to the recognition of emerging technologies that could offer viable alternatives to existing animal identification devices and methods.

DATES: This interim rule is effective November 8, 2004. We will consider all comments that we receive on or before January 7, 2005.

ADDRESSES: You may submit comments by any of the following methods:

• EDOCKET (Preferred Method): Go to http://www.epa.gov/feddocket to submit or view public comments on this docket. Once you have entered EDOCKET, click on the “View Open APHIS Dockets” link to locate this document.

• Postal Mail/Commercial Delivery: Please send four copies of your comment (an original and three copies) to Docket No. 04-052-1, Regulatory Analysis and Development, PPD, APHIS, Station 3C71, 4700 River Road Unit 118, Riverdale, MD 20737-1238. Please state that your comment refers to Docket No. 04-052-1.

• Federal eRulemaking Portal: Go to http://www.regulations.gov and follow the instructions for locating this docket and submitting comments.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: You may view APHIS documents published in the Federal Register and related information, including the names of groups and individuals who have commented on APHIS dockets, on the Internet at http://www.aphis.usda.gov/ppd/rad/webrepor.html.

FOR FURTHER INFORMATION CONTACT: Mr. Neil Hammerschmidt, Animal Identification Coordinator, National Center for Animal Health Programs, VS, APHIS, 4700 River Road, Unit 39, Riverdale, MD 20737-1231; (301) 734-5571.

SUPPLEMENTARY INFORMATION:

Background

The Animal and Plant Health Inspection Service (APHIS) of the U.S. Department of Agriculture (USDA) regulates the interstate movement of certain animals to prevent the spread of livestock and poultry diseases within the United States. The interstate movement regulations are contained in 9 CFR chapter I, subchapter C (parts 70 through 89). APHIS also has regulations providing for the payment of indemnity for certain animals that are destroyed to prevent the spread of various diseases. The indemnity regulations are contained in 9 CFR chapter I, subchapter B (parts 49 through 55). Among other things, the interstate movement regulations, as well as some of the indemnity regulations, contain requirements for the official identification of animals.

The official numbering systems recognized under the regulations prior to this interim rule, such as the National Uniform Eartagging System, have been vital to disease control and eradication programs, but may not be well suited for uses outside of those programs. For example, many producers use separate identification numbers or methods for on-farm production purposes, animal data recording, genetic evaluation, and breed registration. Assigning multiple identification numbers to an animal may necessitate attaching multiple identification tags or devices to the animal, and some identification devices are inevitably lost over time. The ability to access information about a particular animal may also be impaired when data about that animal are stored in various databases under various numbering systems. Furthermore, as diseases such as tuberculosis, brucellosis, and pseudorabies are eradicated from the United States, fewer animals are required to be officially identified under the regulations. As a result, our ability to trace diseased animals back to their herds of origin and to trace other potentially exposed animals forward is being compromised.

To address these considerations, USDA has identified the need for a national animal identification system (NAIS) and defined several key objectives for such a system. These include: (1) Allowing producers, to the extent possible, the flexibility to use current systems or adopt new ones; (2) having a system that is technology neutral, so that all existing effective technologies and new technologies that may be developed in the future may be utilized; (3) having a system that builds upon national data standards to ensure that a uniform and compatible system evolves; (4) having a system that does not preclude producers from being able to use it with production management systems that respond to market incentives; and (5) designing the architecture so that the system does not unduly increase the role and size of the Government.

Design and implementation of such a system are well under way (see http://www.aphis.usda.gov/lpa/issues/nais/nais.html). USDA is moving forward, first on a voluntary basis, to integrate the various types of animal identification programs that currently exist in the United States, and then will scale up to the national level, to include those producers and animals that are not currently in an animal identification program. The goal is to create an effective, uniform, consistent, and efficient national system.

Key to the NAIS is the use of standardized data elements to identify animals and to record their movements. These data elements include numbering systems for individual animals, groups or lots of animals, and premises (locations where animals are managed or held), as well as for individuals or entities, such as State animal health officials, producer organizations, breed associations, identification companies, service providers, etc., that do not own or manage livestock but participate in the system in a variety of ways, such as allocating animal identification numbers to producers, tracking animal movement, and recording animal health data. These participants are referred to as non-producer participants.

The NAIS will allow us to trace back and trace forward animals potentially infected with or exposed to a disease of concern. Traceback refers to the ability to track an animal's location over its lifespan and the ability to determine which animals may have been in contact with a diseased animal or shared a contaminated feed supply. Trace forward data provide locations of animals moved from a premises of concern that may have been exposed to a disease. When fully implemented, the NAIS calls for a trace to be completed within 48 hours of detecting a disease, enhancing our ability to contain an outbreak.

APHIS will initially fund cooperative agreements to help State and Tribal governments establish premises identification systems and to evaluate additional identification pilot projects that could also become a part of the overall national animal identification system. Associations and other segments of the livestock industry may participate in State and Tribal projects. APHIS posted a request for proposals for these cooperative agreements in June 2004. Applications were reviewed and selections made in early August, and cooperative agreements were initiated in September 2004.

This interim rule amends the regulations in order to provide the flexibility needed to facilitate the development and implementation of the NAIS. By adding or amending certain definitions and adding, removing, or amending certain regulatory provisions, this interim rule allows the use of additional numbering systems and devices for official purposes under the regulations. We are also adding provisions prohibiting the removal of official identification devices except at the time of slaughter. These actions are necessary to meet the livestock industry's various identification needs and to ensure our future ability to trace animals to and from their herds of origin. In keeping with the objectives of the NAIS, the use of the new numbering systems will be voluntary. This interim rule merely provides for the use of these numbering systems in instances when official identification is required. Other animal and premises numbering systems that are already recognized by the regulations, such as the National Uniform Eartagging System, will still be recognized by APHIS for purposes of official identification.

Animal Identification

Individual animal identification is needed for tracking animals that, while moving through the production chain, are destined to be commingled with animals outside the production system in which they were born. The animal identification number (AIN) is a number that may be used for the official identification of individual animals in State/Federal/industry cooperative disease control and eradication programs. In order to provide for the use of the AIN for official purposes, we are adding the following definition of animal identification number (AIN) to §§ 71.1, 77.2, 78.1, and 80.1: “A numbering system for the official identification of individual animals in the United States. The AIN consists of 15 digits, with the first 3 being the country code (840 for the United States), the alpha characters USA, or the numeric code assigned to the manufacturer of the identification device by the International Committee on Animal Recording.”

As we have already noted, the AIN is not a mandatory system of livestock identification but an approved alternative to other officially recognized numbering systems in use today.

Since eartags and backtags are two of the most commonly used methods of animal identification, we determined that, in order to provide for the use of AINs on such tags, we needed to amend the definition of official eartag in §§ 71.1, 77.2, 78.1, and 80.1 and the definition of United States Department of Agriculture backtag in §§ 71.1 and 78.1. The previous definition of official eartag only allowed for the use of the National Uniform Eartagging System or a premises identification number used in conjunction with the producer's livestock production numbering system. Similarly, the previous definition of United States Department of Agriculture backtag only allowed for the use of the eight-character alpha-numeric National Backtagging System.

The new definition of official eartag is as follows: “An identification tag providing unique identification for individual animals. An official eartag must bear the U.S. shield. The design, size, shape, color, and other characteristics of the official eartag will depend on the needs of the users. The official eartag must be tamper-resistant and have a high retention rate in the animal. Official eartags must adhere to one of the following numbering systems:

• National Uniform Eartagging System.

• Animal identification number (AIN).

• Premises-based number system. The premises-based number system combines an official premises identification number (PIN), as defined in this section, with a producer's livestock production numbering system to provide a unique identification number. The PIN and the production number must both appear on the official tag.

• Any other numbering system approved by the Administrator for the identification of animals in commerce.”

The new definition of United States Department of Agriculture backtag is “a backtag issued by APHIS that provides unique identification for each animal.” This definition is sufficiently flexible to allow for the use of the AIN or other numbering systems in addition to the National Backtagging System.

We are also adding a new definition of official identification device or method to the domestic animal movement regulations in § 71.1, the brucellosis regulations in § 78.1, the scrapie regulations in § 79.1, and the animal import regulations in §§ 93.400 and 93.500. We define official identification device or method as “a means of officially identifying an animal or group of animals using devices or methods approved by the Administrator, including, but not limited to, official tags, tattoos, and registered brands when accompanied by a certificate of inspection from a recognized brand inspection authority.” The addition of this new definition to the animal import regulations is necessary because we are adding certain provisions, which are discussed in greater detail below, concerning the removal of official identification devices to the regulations in 9 CFR part 93, as well as to part 71. In parts 71, 78, and 79, the new definition complements other new provisions, discussed in more detail below, that we are adding to the regulations.

These new provisions are contained in a new paragraph (b) in § 71.18, a new paragraph (b)(8) in § 79.19, and a new paragraph (a)(2)(iii) in § 79.2, as well as in an amendment to paragraph (a)(2) in § 78.14. These new provisions indicate that, in addition to the identification devices and methods specifically referred to in those sections, other animal identification devices or methods may also be employed for official purposes if approved by the Administrator. Combined with the new definition of official identification device or method, these changes to the regulations are intended to allow for the use of both currently available and emerging animal identification technologies.

We are also removing § 71.19(g), which contains procedures for requesting approval by the Administrator of swine identification devices and markings other than those already listed in § 71.19(b) and states that if the Administrator determines that the devices and markings will provide a means of tracing swine in interstate commerce, a proposal will be published in the Federal Register to add the devices and markings to the list of approved means of swine identification. With new animal identification technologies currently being pilot tested, we determined that the procedures in paragraph (g), particularly the requirement for a proposal to be published in the Federal Register for each new device, were unnecessarily slow and cumbersome. In removing this paragraph, we are removing a potential regulatory obstacle to the approval and use of new technologies. Newly approved devices or markings will still be added to the list in § 71.19(b), however. Because we are removing paragraph (g), we are redesignating paragraphs (h) and (i) as paragraphs (g) and (h), respectively. Because of this redesignation, references to “§ 71.19(h)” in § 85.7(b)(3)(i), (b)(3)(ii), and (c)(1) and in § 85.8(a)(4) have been amended to refer to “§ 71.19(g).”

Group/Lot Identification

Group/lot identification can be used in species where groups of animals are assembled from within the same production system and tracked through records of group movements maintained at the local level by the producer. In order to provide for use of the group/lot identification number for official identification purposes, we are adding a definition of group/lot identification number (GIN) to § 71.1. We define the GIN as “the identification number used to uniquely identify a unit of animals of the same species that is managed together as one group throughout the preharvest production chain. The GIN consists of a seven-character PIN, as defined in § 71.1, and a six-digit representation of the date on which the group or lot of animals was assembled (MM/DD/YY).” If more than one group of animals is assembled on a particular day at a given premises, the animals will still be considered a single group for the purpose of assigning a GIN. Multiple animal groups assembled on the same premises on the same day are not considered to be epidemiologically distinct and should be treated as a single entity for purposes of health management. As is the case with the AIN, use of the GIN is not mandatory.

Premises Identification

Another key element of the NAIS is premises identification. If the goal of a 48-hour traceback capability is to become a reality, it must be possible to record an animal's movements from its farm of origin to other locations throughout its entire life. Identifying premises that manage or hold livestock with a single and unique number is, therefore, essential. In order to provide in the regulations for premises identification under the NAIS, we are replacing the definition of premises identification number in §§ 71.1 and 80.1 with a new definition of premises identification number (PIN). Because existing definitions of premises of origin identification and premises identification in §§ 77.2 and 79.1, respectively, both contain references to PINs, we are also adding a new definition of premises identification number (PIN) to those sections. Prior to this interim rule, premises identification number was defined in §§ 71.1 and 80.1 as a State's two-letter postal abbreviation followed by a number assigned by the State animal health official to a livestock production unit that is, in the judgment of the State animal health official or area veterinarian in charge, epidemiologically distinct from other livestock production units.

In § 71.1, the new definition, which allows for the continued use of this type of PIN but also recognizes the new premises numbering system developed for the NAIS, reads as follows: “A unique number assigned by a State or Federal animal health authority to a premises that is, in the judgment of the State or Federal animal health authority, a geographically distinct location from other livestock production units. The premises identification number is associated with an address or legal land description and may be used in conjunction with a producer's own livestock production numbering system to provide a unique identification number for an animal. It may also be used as a component of a group/lot identification number (GIN). The premises identification number may consist of:

• The State's two-letter postal abbreviation followed by the premises' assigned number; or

• A seven-character alphanumeric code, with the right-most character being a check digit. The check digit number is based upon the ISO 7064 Mod 36/37 check digit algorithm.”

The new definition of premises identification number (PIN) used in §§ 77.2, 79.1, and 80.1 is almost identical to that of § 71.1, omitting only the reference to the GIN. Group/lot identification is mainly used for interstate movement of swine, which is regulated under part 71. Specifically, § 71.19 contains regulations for the identification of swine in interstate commerce. Thus, the reference to the GIN in the definition of PIN is much more applicable to part 71 than to parts 77, 79, and 80, which contain, respectively, regulations pertaining to tuberculosis in cattle, bison, and captive cervids; to scrapie in sheep and goats; and to Johne's disease, which primarily affects cattle, sheep, goats, and other ruminants.

The new definition of premises identification number (PIN) differs from the definition it is replacing not only in recognizing the new numbering system but also in recognizing a premises based on a State or Federal animal health authority's determination that it is a geographically, rather than epidemiologically, distinct animal production unit. Identifying a premises as an epidemiologically distinct animal production unit can be problematic because a unit that may be considered epidemiologically distinct for one animal disease may not be for another. We view geographical distinctness as a more reliable measure by which to determine what constitutes a premises.

In addition to the new definition of premises identification number (PIN), we are also amending the definitions referred to earlier of premises of origin identification in § 77.2 and premises identification in § 79.1. Prior to this interim rule, both of these definitions recognized only the type of PIN beginning with the State's two-letter postal code. The amended definitions refer to the new definition of premises identification number (PIN) and thus recognize the new PIN format as well as the old.

Removal or Loss of Official Identification Devices

The AIN or any other animal numbering system can only be effective if the official eartag or backtag or other approved device bearing the animal's identification number remains affixed to the animal throughout its lifetime, from birth to slaughter. Therefore, we are adding a new § 71.22 that prohibits the removal of official identification devices except at the time of slaughter and further states that if an official identification device is lost and it is necessary to retag an animal with a new official number, every effort should be made to correlate the new official number with the previous official number of the animal. To ensure that there will be the same traceback capability for imported animals as for animals moving interstate, we are adding identical requirements regarding removal and replacement of official devices to §§ 93.401 and 93.501, which contain conditions for imported ruminants and swine, respectively. In each of those sections, the new provisions are contained in a new paragraph (c). As we have already noted, adding these requirements to the animal import regulations also necessitates adding a definition of official identification device or method to §§ 93.400 and 93.500.

Immediate Action

Immediate action is necessary to allow the use, on a voluntary basis, of newly developed numbering systems for the identification of animals in interstate commerce and State/Federal/industry cooperative disease control and eradication programs and for the identification of premises where animals are managed or held. Under these circumstances, the Administrator has determined that prior notice and opportunity for public comment are contrary to the public interest and that there is good cause under 5 U.S.C. 553 for making this action effective less than 30 days after publication in the Federal Register.

We will consider comments we receive during the comment period for this interim rule (see DATES above). After the comment period closes, we will publish another document in the Federal Register. The document will include a discussion of any comments we receive and any amendments we are making to the rule.

Executive Order 12866 and Regulatory Flexibility Act

This rule has been reviewed under Executive Order 12866. The rule has been determined to be not significant for the purposes of Executive Order 12866 and, therefore, has not been reviewed by the Office of Management and Budget.

This interim rule amends the regulations to recognize additional numbering systems for the identification of individual animals, groups of animals, and premises where animals are managed or held. These new numbering systems are intended for use in the NAIS that is being implemented by the USDA, at present on a voluntary basis.

Entities that may be affected by this interim rule include U.S. animal producers, importers, and other individuals and organizations involved in the buying and selling of livestock.

There were 1.03 million cattle and calf producers in the United States in 2003. There were also 95,189 cattle feeding operations in the United States in 2002. On January 1, 2004, there were 95 million beef and dairy cattle and calves in the United States. Nearly 38 million calves were born in the United States in 2003. Each of these 38 million head would presumably be tested, vaccinated, monitored under official disease control programs, or moved in interstate or international commerce and would therefore need to be identified if the NAIS were to be fully implemented. In addition, in 2002, 2.5 million cattle and calves were imported into the United States. Under § 93.404, ruminants imported into the United States require individual identification.

The U.S. hog industry had 60 million hogs as of December 1, 2003. In 2003, 100.4 million head were born. About 7 million head were estimated to die due to disease, predators, and other causes, and 100 million head were slaughtered. There were 75,350 hog producers in the United States in 2002.

The U.S. sheep industry had 7.6 million sheep and lambs on farms as of July 2004. There were 64,170 sheep and lambs produced in 2002.

In addition to animal producers, many non-producers, such as slaughter plants, stockyards, bonded dealers, and marketing agencies involved in buying or selling livestock in the United States may potentially be involved in the NAIS. There were 3,222 U.S. livestock slaughter plants in 2003, of which 879 were under Federal inspection. There are an estimated 7,775 stockyards, bonded dealers, and marketing agencies in the United States.

The primary beneficiaries of the NAIS are expected to be producers, who, because disease outbreaks are likely to be controlled more quickly than in the past, are likely to experience a reduction in costs associated with such outbreaks (e.g., export markets may not be lost or may be restricted for shorter durations); taxpayers, who will need to fund smaller mitigation, eradication, and compensation programs than they have in the past; and consumers, who will experience less disruption in the supply of meat if a major disease event happens and improved confidence in the meat supply system because of the speed with which we will be able to respond to such events.

It is important to note that participation in the NAIS is voluntary. Producers can opt not to participate in the NAIS if they anticipate that the costs they will incur will exceed the benefits they receive from participation. Little information is available at this time about costs that may be incurred by producers. APHIS welcomes comments about the costs of an animal identification system.

Impact on Small Businesses

The Regulatory Flexibility Act requires that agencies consider the economic impact of their rules on small entities. This interim rule has potential implications for small entities in the United States, both in terms of any costs they might incur to satisfy NAIS program requirements and in terms of the benefits associated with the program's establishment. Beef and hog producers are among the small entities potentially affected by this interim rule.

According to Small Business Administration (SBA) guidelines, beef producers with $750,000 or less in annual receipts are considered small businesses. Based on the guidelines, producers with fewer than 1,200 head of cattle would likely be considered small producers. For the period of January to April 2004, the average head of cattle weighed approximately 700 pounds. The 2003 annual market price for live choice steers was $84.69 per hundredweight (cwt). The average price per cwt, $84.69, times the average weight, 7 cwt, gives an average price per head of $592.83. At that price, 1,265 head of cattle would be needed to reach the $750,000 threshold.¹ In 2003, 60 percent of U.S. cattle producers had fewer than 50 head, and 99 percent had fewer than 1,000 head.

¹ Source: Economic Research Service (ERS) Livestock, Dairy, and Poultry Outlook, April 27, 2004.

According to SBA guidelines, hog producers with $750,000 or less in annual receipts are considered small businesses. In the first quarter of 2004, hogs were priced at $44.18 per hundredweight (cwt). There is a 6-month production cycle for hogs. Assuming an average hog weight of 200 pounds, the average price per head is $88.36; therefore, each production unit could generate $176.72 times the current inventory per year. Producers with fewer than 4,000 head of hogs ($750,000 divided by $176.72 equals 4,244 hogs) would likely be considered small according to the SBA guidelines.² In 2003, 40 percent of hog producers had fewer than 99 head, and 57 percent had fewer than 500 head.

² Source: ERS Livestock, Dairy, and Poultry Outlook, April 27, 2004.

We expect that the benefits of more effective disease control will outweigh any costs to producers that may result from their participation in the NAIS. Because participation is voluntary, small entities could opt out of the program if they found that the costs outweighed the benefits. The benefit of this rule is the provision of greater flexibility in official animal and premises identification. As use of this numbering system is voluntary, no costs are imposed on participants and it is unlikely for this interim rule to have any adverse impact on small businesses.

Under these circumstances, the Administrator of the Animal and Plant Health Inspection Service has determined that this action will not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This rule has been reviewed under Executive Order 12988, Civil Justice Reform. This rule: (1) Preempts all State and local laws and regulations that are in conflict with this rule; (2) has no retroactive effect; and (3) does not require administrative proceedings before parties may file suit in court challenging this rule.

Paperwork Reduction Act

This rule contains no new information collection or recordkeeping requirements under the Paperwork Reduction Act of 1995 (44 U.S.C. 3501 et seq.).

List of Subjects

9 CFR Part 71

Animal diseases, Livestock, Poultry and poultry products, Quarantine, Reporting and recordkeeping requirements, Transportation.

9 CFR Part 77

Animal diseases, Bison, Cattle, Reporting and recordkeeping requirements, Transportation, Tuberculosis.

9 CFR Part 78

Animal diseases, Bison, Cattle, Hogs, Quarantine, Reporting and recordkeeping requirements, Transportation.

9 CFR Part 79

Animal diseases, Quarantine, Sheep, Transportation.

9 CFR Part 80

Animal diseases, Livestock, Transportation.

9 CFR Part 85

Animal diseases, Livestock, Quarantine, Reporting and recordkeeping requirements, Transportation.

9 CFR Part 93

Animal diseases, Imports, Livestock, Poultry and poultry products, Quarantine, Reporting and recordkeeping requirements.

Accordingly, we are amending 9 CFR parts 71, 77, 78, 79, 80, 85, and 93 as follows:

PART 71—GENERAL PROVISIONS

1. The authority citation for part 71 continues to read as follows:

Authority: 7 U.S.C. 8301-8317; 7 CFR 2.22, 2.80, and 371.4.

2. Section 71.1 is amended by revising the definitions of official eartag, premises identification number, and United States Department of Agriculture backtag; and adding, in alphabetical order, definitions of animal identification number (AIN), group/lot identification number (GIN), and official identification device or method to read as follows:

§ 71.1 Definitions.

* * * * *

Animal identification number (AIN). A numbering system for the official identification of individual animals in the United States. The AIN contains 15 digits, with the first 3 being the country code (840 for the United States), the alpha characters USA, or the numeric code assigned to the manufacturer of the identification device by the International Committee on Animal Recording.

* * * * *

Group/lot identification number (GIN). The identification number used to uniquely identify a “unit of animals” of the same species that is managed together as one group throughout the preharvest production chain. The GIN consists of a seven-character premises identification number (PIN), as defined in this section, and a six-digit representation of the date on which the group or lot of animals was assembled (MM/DD/YY).

* * * * *

Official eartag. An identification tag providing unique identification for individual animals. An official eartag must bear the U.S. shield. The design, size, shape, color, and other characteristics of the official eartag will depend on the needs of the users. The official eartag must be tamper-resistant and have a high retention rate in the animal. Official eartags must adhere to one of the following numbering systems:

(1) National Uniform Eartagging System.

(2) Animal identification number (AIN).

(3) Premises-based number system. The premises-based number system combines an official premises identification number (PIN), as defined in this section, with a producer's livestock production numbering system to provide a unique identification number. The PIN and the production number must both appear on the official tag.

(4) Any other numbering system approved by the Administrator for the identification of animals in commerce.

Official identification device or method. A means of officially identifying an animal or group of animals using devices or methods approved by the Administrator, including, but not limited to, official tags, tattoos, and registered brands when accompanied by a certificate of inspection from a recognized brand inspection authority.

* * * * *

Premises identification number (PIN). A unique number assigned by a State or Federal animal health authority to a premises that is, in the judgment of the State or Federal animal health authority, a geographically distinct location from other livestock production units. The premises identification number is associated with an address or legal land description and may be used in conjunction with a producer's own livestock production numbering system to provide a unique identification number for an animal. It may also be used as a component of a group/lot identification number (GIN). The premises identification number may consist of:

(1) The State's two-letter postal abbreviation followed by the premises' assigned number; or

(2) A seven-character alphanumeric code, with the right-most character being a check digit. The check digit number is based upon the ISO 7064 Mod 36/37 check digit algorithm.

* * * * *

United States Department of Agriculture backtag. A backtag issued by APHIS that provides unique identification for each animal.

3. In § 71.18, a new paragraph (b) is added to read as follows:

§ 71.18 Individual identification of certain cattle 2 years of age or over for movement in interstate commerce.

* * * * *

(b) In lieu of the backtags, eartags, and brands referred to in this section, any other official identification device or method that is approved by the Administrator may also be used.

4. Section 71.19 is amended as follows:

a. In paragraph (a)(1), in the introductory text, by removing the words “(c) and (h)” and adding the words “(c) and (g)” in their place.

b. In paragraph (b)(6), by removing the word “and”.

c. In paragraph (b)(7), by removing the period at the end of the paragraph and adding the word “; and” in its place.

d. By adding a new paragraph (b)(8) to read as set forth below.

e. By removing paragraph (g) and redesignating paragraphs (h) and (i) as paragraphs (g) and (h), respectively.

§ 71.19 Identification of swine in interstate commerce.

* * * * *

(b) * * *

(8) Any other official identification device or method that is approved by the Administrator.

* * * * *

5. A new § 71.22 is added to read as follows:

§ 71.22 Removal and loss of official identification devices.

Official identification devices are intended to provide permanent identification of livestock and to ensure the ability to find the source of animal disease outbreaks. Removal of these devices is prohibited except at the time of slaughter. If an official identification device is lost, and it is necessary to retag an animal with a new official number, every effort should be made to correlate the new official number with the previous official number of the animal.

PART 77—TUBERCULOSIS

6. The authority citation for part 77 continues to read as follows:

Authority: 7 U.S.C. 8301-8317; 7 CFR 2.22, 2.80, and 371.4.

7. Section 77.2 is amended by revising the definitions of official eartag and premises of origin identification and adding definitions of animal identification number (AIN) and premises identification number (PIN) to read as follows:

§ 77.2 Definitions.

* * * * *

Animal identification number (AIN). A numbering system for the official identification of individual animals in the United States. The AIN contains 15 digits, with the first 3 being the country code (840 for the United States), the alpha characters USA, or the numeric code assigned to the manufacturer of the identification device by the International Committee on Animal Recording.

* * * * *

Official eartag. An identification tag providing unique identification for individual animals. An official eartag must bear the U.S. shield. The design, size, shape, color, and other characteristics of the official eartag will depend on the needs of the users. The official eartag must be tamper-resistant and have a high retention rate in the animal. Official eartags must adhere to one of the following numbering systems:

(1) National Uniform Eartagging System.

(2) Animal identification number (AIN).

(3) Premises-based number system. The premises-based number system combines an official premises identification number (PIN), as defined in this section, with a producer's livestock production numbering system to provide a unique identification number. The PIN and the production number must both appear on the official tag.

(4) Any other numbering system approved by the Administrator for the identification of animals in commerce.

* * * * *

Premises identification number (PIN). A unique number assigned by a State or Federal animal health authority to a premises that is, in the judgment of the State or Federal animal health authority, a geographically distinct location from other livestock production units. The premises identification number is associated with an address or legal land description and may be used in conjunction with a producer's own livestock production numbering system to provide a unique identification number for an animal. The premises identification number may consist of:

(1) The State's two-letter postal abbreviation followed by the premises' assigned number; or

(2) A seven-character alphanumeric code, with the right-most character being a check digit. The check digit number is based upon the ISO 7064 Mod 36/37 check digit algorithm.

Premises of origin identification. (1) An APHIS-approved eartag or tattoo bearing a premises identification number (PIN), as defined in this section;

(2) A name assigned by a State or Federal animal health authority to the premises on which the animals originated that, in the judgment of that State or Federal animal health authority, is a geographically distinct location from other livestock production units; or

(3) A brand registered with an official brand registry.

* * * * *

PART 78—BRUCELLOSIS

8. The authority citation for part 78 continues to read as follows:

Authority: 7 U.S.C. 8301-8317; 7 CFR 2.22, 2.80, and 371.4.

9. Section 78.1 is amended by revising the definitions of official eartag and United States Department of Agriculture backtag and adding definitions of animal identification number (AIN) and official identification device or method in alphabetical order to read as follows:

§ 78.1 Definitions.

* * * * *

Animal identification number (AIN). A numbering system for the official identification of individual animals in the United States. The AIN contains 15 digits, with the first 3 being the country code (840 for the United States), the alpha characters USA, or the numeric code assigned to the manufacturer of the identification device by the International Committee on Animal Recording.

* * * * *

Official eartag. An identification tag providing unique identification for individual animals. An official eartag must bear the U.S. shield. The design, size, shape, color, and other characteristics of the official eartag will depend on the needs of the users. The official eartag must be tamper-resistant and have a high retention rate in the animal. Official eartags must adhere to one of the following numbering systems:

(a) National Uniform Eartagging System.

(b) Animal identification number (AIN).

(c) Premises-based number system. The premises-based number system combines an official premises identification number (PIN), as defined in § 71.1 of this chapter, with a producer's livestock production numbering system to provide a unique identification number. The PIN and the production number must both appear on the official tag.

(d) Any other numbering system approved by the Administrator for the identification of animals in commerce.

Official identification device or method. A means of officially identifying an animal or group of animals using devices or methods approved by the Administrator, including, but not limited to, official tags, tattoos, and registered brands when accompanied by a certificate of inspection from a recognized brand inspection authority.

* * * * *

United States Department of Agriculture backtag. A backtag issued by APHIS that provides unique identification for each animal.

* * * * *

§ 78.14 [Amended]

10. In § 78.14, paragraph (a)(2) is amended by adding the words “or any other official identification device or method approved by the Administrator” after the word “eartag”.

PART 79—SCRAPIE IN SHEEP AND GOATS

11. The authority citation for part 79 continues to read as follows:

Authority: 7 U.S.C. 8301-8317; 7 CFR 2.22, 2.80, and 371.4.

12. Section 79.1 is amended by adding, in alphabetical order, definitions of official identification device or method and premises identification number (PIN) and revising the definition of premises identification to read as follows:

§ 79.1 Definitions.

* * * * *

Official identification device or method. A means of officially identifying an animal or group of animals using devices or methods approved by the Administrator, including, but not limited to, official tags, tattoos, and registered brands when accompanied by a certificate of inspection from a recognized brand inspection authority.

* * * * *

Premises identification. An APHIS approved eartag, backtag, or legible tattoo bearing the premises identification number, as defined in this section, or a flock identification number, or a legible permanent brand or ear notch pattern registered with an official brand registry. Premises identification may be used when official individual animal identification is required, if the premises identification method either includes a unique animal number or is used in conjunction with the producer's livestock production numbering system to provide a unique identification number and where, if brands or ear notches are used, the animals are accompanied by an official brand inspection certificate. Clearly visible and/or legible paint brands may be used on animals moving directly to slaughter and on animals moving for grazing or other management purposes without change in ownership.

Premises identification number (PIN). A unique number assigned by a State or Federal animal health authority to a premises that is, in the judgment of the State or Federal animal health authority, a geographically distinct location from other livestock production units. The premises identification number is associated with an address or legal land description and may be used in conjunction with a producer's own livestock production numbering system to provide a unique identification number for an animal. The premises identification number may consist of:

(1) The State's two-letter postal abbreviation followed by the premises' assigned number; or

(2) A seven-character alphanumeric code, with the right-most character being a check digit. The check digit number is based upon the ISO 7064 Mod 36/37 check digit algorithm.

* * * * *

13. Section 79.2 is amended as follows:

a. In paragraph (a)(2)(v), by removing the word “or” at the end of the paragraph.

b. In paragraph (a)(2)(vi), by removing the period at the end of the paragraph and adding the word “; or” in its place.

c. By adding a new paragraph (a)(2)(vii) to read as set forth below:

§ 79.2 Identification of sheep and goats in interstate commerce.

(a) * * *

(2) * * *

(vii) Any other official identification method or device approved by the Administrator.

* * * * *

PART 80—JOHNE'S DISEASE IN DOMESTIC ANIMALS

14. The authority citation for part 80 continues to read as follows:

Authority: 7 U.S.C. 8301-8317; 7 CFR 2.22, 2.80, and 371.4.

15. Section 80.1 is amended by removing the definitions of premises identification number; revising the definitions of official eartag and premises identification number; and adding, in alphabetical order, definition of animal identification number (AIN) to read as follows:

§ 80.1 Definitions.

* * * * *

Animal identification number (AIN). A numbering system for the official identification of individual animals in the United States. The AIN contains 15 digits, with the first 3 being the country code (840 for the United States), the alpha characters USA, or the numeric code assigned to the manufacturer of the identification device by the International Committee on Animal Recording.

* * * * *

Official eartag. An identification tag providing unique identification for individual animals. An official eartag must bear the U.S. shield. The design, size, shape, color, and other characteristics of the official eartag will depend on the needs of the users. The official eartag must be tamper-resistant and have a high retention rate in the animal. Official eartags must adhere to one of the following numbering systems:

(1) National Uniform Eartagging System.

(2) Animal identification number (AIN).

(3) Premises-based number system. The premises-based number system combines an official premises identification number (PIN), as defined in this section, with a producer's livestock production numbering system to provide a unique identification number. The PIN and the production number must both appear on the official tag.

(4) Any other numbering system approved by the Administrator for the identification of animals in commerce.

* * * * *

Premises identification number (PIN). A unique number assigned by a State or Federal animal health authority to a premises that is, in the judgment of the State or Federal animal health authority, a geographically distinct location from other livestock production units. The premises identification number is associated with an address or legal land description and may be used in conjunction with a producer's own livestock production numbering system to provide a unique identification number for an animal. The premises identification number may consist of:

(1) The State's two-letter postal abbreviation followed by the premises' assigned number; or

(2) A seven-character alphanumeric code, with the right-most character being a check digit. The check digit number is based upon the ISO 7064 Mod 36/37 check digit algorithm.

* * * * *

PART 85—PSEUDORABIES

16. The authority citation for part 85 continues to read as follows:

Authority: 7 U.S.C. 8301-8317; 7 CFR 2.22, 2.80, and 371.4.

§ 85.7 [Amended]

17. In § 85.7, paragraphs (b)(3)(i), (b)(3)(ii), and (c)(1) are amended by removing the citation “§ 71.19(h)” and adding the citation “§ 71.19(g)” in its place.

§ 85.8 [Amended]

18. In § 85.8, paragraph (a)(4) is amended by removing the citation “§ 71.19(h)” and adding the citation “§ 71.19(g)” in its place.

PART 93—IMPORTATION OF CERTAIN ANIMALS, BIRDS, AND POULTRY, AND CERTAIN ANIMAL, BIRD, AND POULTRY PRODUCTS; REQUIREMENTS FOR MEANS OF CONVEYANCE AND SHIPPING CONTAINERS

19. The authority citation for part 93 continues to read as follows:

Authority: 7 U.S.C. 1622 and 8301-8317; 21 U.S.C. 136 and 136a; 31 U.S.C. 9701; 7 CFR 2.22, 2.80, and 371.4.

20. Section 93.400 is amended by adding, in alphabetical order, a definition of official identification device or method to read as follows:

§ 93.400 Definitions.

* * * * *

Official identification device or method. A means of officially identifying an animal or group of animals using devices or methods approved by the Administrator, including, but not limited to, official tags, tattoos, and registered brands when accompanied by a certificate of inspection from a recognized brand inspection authority.

* * * * *

21. Section 93.401 is amended by adding a new paragraph (c) to read as follows:

§ 93.401 General prohibitions; exceptions.

* * * * *

(c) Removal and loss of official identification devices. Official identification devices are intended to provide permanent identification of livestock and to ensure the ability to find the source of animal disease outbreaks. Removal of these devices is prohibited except at the time of slaughter. If an official identification device is lost, and it is necessary to retag an animal with a new official number, every effort should be made to correlate the new official number with the previous official number of the animal.

22. Section 93.500 is amended by adding, in alphabetical order, a definition of official identification device or method to read as follows:

§ 93.500 Definitions.

* * * * *

Official identification device or method. A means of officially identifying an animal or group of animals using devices or methods approved by the Administrator, including, but not limited to, official tags, tattoos, and registered brands when accompanied by a certificate of inspection from a recognized brand inspection authority.

* * * * *

23. Section 93.501 is amended by adding a new paragraph (c) to read as follows:

§ 93.501 General prohibitions; exceptions.

* * * * *

(c) Removal and loss of official identification devices. Official identification devices are intended to provide permanent identification of livestock and to ensure the ability to find the source of animal disease outbreaks. Removal of these devices is prohibited except at the time of slaughter. If an official identification device is lost and it is necessary to retag an animal with a new official number, every effort should be made to correlate the new official number with the previous official number of the animal.

Done in Washington, DC, this 2nd day of November 2004.
Kevin Shea,
Acting Administrator, Animal and Plant Health Inspection Service.

[FR Doc. 04-24828 Filed 11-5-04; 8:45 am]

BILLING CODE 3410-34-P